FEDERAL COMMUNICATIONS COMMISSION

47 CFR Part 73

[DA 02-256, MM Docket No. 01-301, RM-10207]

Digital Television Broadcast Service; Mississippi State, MS

AGENCY: Federal Communications Commission.

ACTION: Final rule.

SUMMARY: The Commission, at the request of Mississippi Authority for Educational Television, licensee of noncommercial station WMAB-TV, Mississippi State, Mississippi, substitutes DTV channel *10 for DTV channel *38. See 66 FR 54190, October 26, 2001. DTV channel *10 can be allotted to Mississippi State in compliance with the principle community coverage requirements of Section 73.625(a) at reference coordinates (33-21-14 N. and 89-09-00 W.) with a power of 4.3, HAAT of 349 meters and with a DTV service population of 330 thousand. With this action, this proceeding is terminated.

DATES: Effective March 25, 2002.

FOR FURTHER INFORMATION CONTACT: Pam Blumenthal, Mass Media Bureau, (202) 418-1600.

SUPPLEMENTARY INFORMATION: This is a synopsis of the Commission's Report and Order, MM Docket No. 01-301, adopted February 1, 2002, and released February 7, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Mississippi, is amended by removing DTV channel *38 and adding DTV channel *10 at Mississippi State.

Federal Communications Commission.
Barbara A. Kreisman,
Chief, Video Services Division, Mass Media Bureau.

[FR Doc. 02-3575 Filed 2-13-02; 8:45 am]

BILLING CODE 6712-01-P